ENVIRONMENTAL PROTECTION AGENCY

40 CFR Part 52

[EPA-R08-OAR-2020-0098; FRL-12594-01-R8]

Air Plan Approval; State of Utah; Utah PM2.5 State Implementation Plan Revisions

AGENCY: Environmental Protection Agency (EPA).

ACTION: Proposed rule.

SUMMARY: The Environmental Protection Agency (EPA) is proposing to approve, through parallel processing, a State Implementation Plan (SIP) submission from the State of Utah with revisions to Utah Administrative Code (UAC), Utah State SIP, and the best available control measures/best available control technologies (BACM/BACT) determinations for five facilities found in the Salt Lake City, Utah nonattainment area (NAA) for the 2006 24-hour fine particulate matter with an aerodynamic diameter less than or equal to a nominal 2.5 microns (PM2.5) National Ambient Air Quality Standard (NAAQS) (State of Utah draft dated May 20, 2025). The EPA is taking this action pursuant to the Clean Air Act (CAA or the Act).

DATES: Written comments must be received on or before August 15, 2025.

ADDRESSES: Submit your comments, identified by Docket ID No. EPA-R08-OAR-2020-0098, to the Federal Rulemaking Portal: https://www.regulations.gov. Follow the online instructions for submitting comments. Once submitted, comments cannot be edited or removed from https://www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Docket: All documents in the docket are listed in the https://www.regulations.gov index. Although listed in the index, some information is not publicly available, e.g., CBI or other information whose disclosure is restricted by statute. Certain other material, such as copyrighted material, will be publicly available only in hard copy. Publicly available docket materials are available electronically in https://www.regulations.gov. Please email or call the person listed in the FOR FURTHER INFORMATION CONTACT section if you need to make alternative arrangements for access to the docket.

FOR FURTHER INFORMATION CONTACT: Crystal Ostigaard, Air and Radiation Division, EPA, Region 8, Mailcode 8ARD-IO, 1595 Wynkoop Street, Denver, Colorado, 80202-1129, telephone number: (303) 312-6602, email address: ostigaard.crystal@epa.gov.

SUPPLEMENTARY INFORMATION: Throughout this document wherever “we,” “us,” or “our” is used, we mean the EPA.

Table of Contents

I. Background

II. EPA's Evaluation of the May 20, 2025 Draft SIP Submission

III. Proposed Action

IV. Incorporation by Reference

V. Statutory and Executive Order Reviews

I. Background

A. Statutory and Regulatory Background for EPA's Regulation of PM2.5

Under section 109 of the Act, the EPA has promulgated NAAQS for certain pollutants, including PM2.5 (40 CFR 50.2(b)). Once the EPA promulgates a NAAQS, section 107 of the Act specifies a process for the designation of each area within a state, generally as either an attainment area (an area attaining the NAAQS) or as a NAA (an area not attaining the NAAQS, or that contributes to nonattainment of the NAAQS in a nearby area). For PM2.5, certain areas have also been designated “unclassifiable.” These various designations, in turn, trigger certain state planning requirements.

For all areas, regardless of designation, section 110 of the Act requires that each state adopt and submit for EPA approval, a plan to provide for implementation, maintenance, and enforcement of the NAAQS. This plan is commonly referred to as a SIP. CAA section 110 contains requirements that a SIP must meet to gain EPA approval.¹ For NAAs, SIPs must meet additional requirements in part D of title I of the Act.

¹ EPA's approval of a SIP has several consequences. For example, after the EPA approves a SIP, the EPA and citizens may enforce the SIP's requirements in federal court under section 113 and section 304 of the Act; in other words, the EPA's approval of a SIP makes the SIP “federally enforceable.” Also, once the EPA has approved a SIP, a state cannot unilaterally change the federally enforceable version of the SIP. Instead, the state must first submit a SIP revision to the EPA and gain EPA's approval of that revision.

On October 17, 2006 (71 FR 61144), the EPA revised the level of the 24-hour PM2.5 NAAQS, lowering the primary and secondary standards from the 1997 standard of 65 micrograms per cubic meter (µg/m³) to 35 µg/m³. On November 13, 2009 (74 FR 58688), the EPA designated three NAAs in Utah for the 2006 24-hour PM2.5 NAAQS of 35 µg/m³. These are the Salt Lake City; Provo; and Logan, Utah-Idaho ² NAAs.

² The Logan, Utah-Idaho NAA was redesignated to attainment for the 2006 24-hour PM2.5 NAAQS on May 19, 2021 (86 FR 27035).

The EPA originally issued a rule in 2007 ³ regarding implementation of the 2006 24-hour PM2.5 NAAQS for the NAA plan requirements specified in CAA title I, part D, subpart 1. Under subpart 1, Utah was required to submit an attainment plan for each area no later than three years from the date of nonattainment designation. These plans needed to provide for the attainment of the PM2.5 standards as expeditiously as practicable, but no later than five years from the date the areas were designated nonattainment.

³ 72 FR 20586 (Apr. 25, 2007).

In 2013, the U.S. Court of Appeals for the District of Columbia held that the EPA should have implemented the 2006 PM2.5 24-hour standards, as well as the other PM2.5 NAAQS, based on both subpart 1 and subpart 4 of CAA title I, part D.⁴ Under subpart 4, all NAAs are initially classified as Moderate, and Moderate area attainment plans must address the requirements of subpart 4 as well as subpart 1. Additionally, subpart 4 sets a different SIP submittal due date and attainment year. For a Moderate area, the attainment SIP is due 18 months after designation and the attainment year is as expeditiously as practicable, but no later than the end of the sixth calendar year after designation.

⁴ Nat. Res. Def. Council v. EPA, 706 F.3d 428, 437 (D.C. Cir. 2013) (NRDC) or 2013 National Resources Defense Council (NRDC) decision.

On June 2, 2014 (79 FR 31566), the EPA finalized the Identification of Nonattainment Classification and Deadlines for Submission of State Implementation Plan (SIP) Provisions for the 1997 Fine Particulate (PM2.5) National Ambient Air Quality Standard (NAAQS) and 2006 24-hour PM2.5 NAAQS. This rule classified the areas that were designated as Moderate in 2009 as nonattainment and set the attainment SIP submittal due date for those areas to December 31, 2014. Additionally, this rule established the Moderate area attainment date of December 31, 2015.

On August 24, 2016 (81 FR 58010), the EPA finalized the Fine Particulate Matter National Ambient Air Quality Standards: State Implementation Plan Requirements (“PM2.5 Requirements Rule”), which partially addressed the 2013 National Resources Defense Council (NRDC) decision. The final PM2.5 Requirements Rule details how air agencies can meet the SIP requirements under subparts 1 and 4 that apply to areas designated nonattainment for any PM2.5 NAAQS, such as: general requirements for attainment plan due dates and attainment demonstrations; provisions for demonstrating reasonable further progress (RFP); quantitative milestones; contingency measures; nonattainment new source review (NNSR) permitting programs; and reasonable available control measures (RACM) (including reasonably available control technologies (RACT)). The statutory attainment planning requirements of subparts 1 and 4 were established to ensure that the following goals of the CAA are met: (i) that states implement measures that provide for attainment of the PM2.5 NAAQS as expeditiously as practicable; and (ii) that states adopt emissions reduction strategies that will be the most effective at reducing PM2.5 levels in NAAs.

If an area is reclassified from Moderate to Serious, the area will then be subject to Serious PM2.5 CAA requirements under subpart 1 and subpart 4, and the CAA requires the state to submit the following Serious area SIP elements: (1) CAA section 172(c)(3); (2) CAA sections 172(c)(1) and 189(b)(1)(B); (3) CAA section 188(c)(2); (4) CAA section 172(c)(2); (5) CAA section 189(c); (6) CAA section 189(e); (7) CAA section 172(c)(9); and (8) CAA section 302(j) and CAA section 189(b)(3).

Serious area 2006 24-hour PM2.5 plans must also satisfy the general requirements applicable to all SIP submissions under section 110 of the CAA, including the requirement to provide necessary assurances that the implementing agencies have adequate personnel, funding, and authority under CAA section 110(a)(2)(E), and the requirements concerning enforcement in CAA section 110(a)(2)(C).

B. Utah's PM2.5 Attainment Status and SIP Development

After the November 13, 2009 designation of nonattainment for the 2006 24-hour PM2.5 NAAQS, Utah developed draft PM2.5 attainment plans intended to meet the requirements of subpart 1. Utah submitted these revised 2006 24-hour PM2.5 attainment plans for the Salt Lake City and Provo NAAs on December 14, 2012.

After the court's 2013 decision, Utah amended its attainment plans to address the requirements of subpart 4. On December 16, 2014, Utah Division of Air Quality (UDAQ) withdrew all prior Salt Lake City and Provo 2006 24-hour PM2.5 Moderate SIP attainment plan submissions and submitted a subpart 1 and subpart 4 Salt Lake City and Provo 2006 24-hour PM2.5 Moderate SIP. Additionally, the State of Utah submitted various revisions to the UAC Title R307 (Environmental Quality) area source rules in multiple submissions: February 2, 2012; May 9, 2013; June 8, 2013; February 18, 2014; April 17, 2014; May 20, 2014; July 10, 2014; and August 6, 2014. These area source rules were either new or revised to meet RACM/RACT for the Salt Lake City and Provo 2006 24-hour PM2.5 SIPs. The EPA acted on these submittals, along with the area source rule revisions in the December 16, 2014, submission, on February 25, 2016 (81 FR 9343), October 19, 2016 (81 FR 71988), October 2, 2019 (84 FR 52368), and February 26, 2020 (85 FR 10989).

On January 19, 2017, the State of Utah submitted revisions to their Part H.11, 12, and 13 emission limits section of the Utah 2006 24-hour PM2.5 SIP and revised R307-110-17. R307-110-17 incorporation by reference (IBR) section IX., Control Measures for Area and Point Sources, Part H, Emission Limits; which formally incorporates the Salt Lake City and Provo 2006 24-hour PM2.5 Part H.11, 12, and 13 emission limits into Utah's State regulations. This was undertaken by UDAQ to correlate any overlapping limits between the 2006 24-hour PM2.5 Part H.11, 12, and 13, to the coarse particulate matter (PM10) Part H.1, 2, 3, and 4.

On May 10, 2017 (82 FR 21711), the EPA published a final rule reclassifying the Salt Lake City and Provo areas to “Serious” nonattainment status, based on the EPA's determination that the areas could not practicably attain the 2006 24-hour PM2.5 standards by the December 31, 2015 attainment date. This reclassification became effective on June 9, 2017. The reclassification was based on the EPA's evaluation of ambient air quality data from the 2013-2015 period, indicating that it was not practicable for some of the monitoring sites in the Salt Lake City and Provo areas to show PM2.5 design values at or below the level of the 2006 24-hour PM2.5 NAAQS by December 31, 2015.

On March 23, 2018, the State of Utah submitted quantitative milestone reports for the Salt Lake City and Provo 2006 24-hour PM2.5 NAAs, meeting its due date of no later than 90 days after the December 31, 2017, milestone date. On October 24, 2018, the EPA determined that the 2017 quantitative milestone reports for the Salt Lake City and Provo 2006 24-hour PM2.5 NAAs were adequate.⁵

⁵ The state's quantitative milestone reports and the adequacy determination letter from the EPA Administrator to the Governor of Utah are in the docket for this action.

After the Serious reclassification, UDAQ revised certain area source rules in UAC section R307-200 and R307-300 Series and submitted these revisions on April 19, 2018, May 21, 2020, and July 21, 2020. On February 4, 2019, the State of Utah submitted the Serious 2006 24-hour PM2.5 SIP for the Salt Lake City NAA which included the BACM/BACT analysis for the Provo Serious 2006 PM2.5 NAA. The analysis was based on the emission limits submitted on January 19, 2017, for only Part H.13. On February 15, 2019, Utah submitted the Serious 2006 24-hour PM2.5 SIP for the Salt Lake City NAA, which included revisions to Utah SIP Part H.11 and 12, and the accompanying BACM/BACT analysis. The February 4, 2019 and February 15, 2019, submission included BACM/BACT analyses for on-road, off-road, and area source rules; some of these area source rules were revised and others were deemed BACM/BACT without revising.⁶

⁶ On November 6, 2020, (85 FR 71023), the EPA proposed approval of the redesignation requests, maintenance plans, and the Moderate and Serious PM2.5 SIP submissions including BACM/BACT determinations.

Applying the Clean Data Policy,⁷ on April 10, 2019 (84 FR 14267) and September 27, 2019 (84 FR 51055), the EPA finalized a determination that the obligation to submit any remaining attainment-related SIP revisions arising from classification of the Provo and Salt Lake City area, as Moderate NAAs and the subsequent reclassification as Serious NAAs for the 2006 24-hour PM2.5 NAAQS does not apply for so long as the area continues to attain the 2006 24-hour PM2.5 NAAQS.⁸ The attainment-related SIP revisions that were suspended include: an attainment demonstration (Moderate and Serious), provisions demonstrating timely implementation of RACM/RACT (Moderate), an RFP plan (Moderate and Serious), quantitative milestones and quantitative milestone reports (Moderate and Serious), and contingency measures (Moderate and Serious). The only remaining attainment-related SIP elements for EPA action include baseline emission inventories, NNSR, and BACM/BACT.

⁷ The EPA codified the Clean Data Policy in the PM2.5 Requirements Rule for the implementation of current and future PM2.5 NAAQS. See 81 FR at 58161; 40 CFR 51.1015(a).

⁸ 40 CFR 51.1015(a) and (b).

C. Requirements for BACM/BACT

For any Serious 2006 24-hour PM2.5 NAA, section 189(b)(1)(B) of the Act requires that a state submit provisions to assure that BACM/BACT for the control of PM2.5 and PM2.5 precursors shall be implemented no later than four years after the date the area is reclassified as a Serious area. The EPA defines BACM (including BACT) as, among other things, the maximum degree of emissions reduction achievable for a source or source category, which is determined on a case-by-case basis considering energy, economic and environmental impacts, and other costs.⁹ We consider BACM a control level that goes beyond existing RACM-level controls, for example by expanding the use of RACM controls or by requiring preventative measures instead of remediation.¹⁰ The level of stringency generally refers to the overall level of emissions reductions of a control measure or technology, or of such measures and technologies combined.

⁹ State Implementation Plans for Serious PM10 Nonattainment Areas, and Attainment Date Waivers for PM10 Nonattainment Areas Generally; Addendum to the General Preamble for the Implementation of Title I of the Clean Air Act Amendments of 1990 (“Addendum”), August 16, 1994; 59 FR 41998, 42010, 42013 (Aug. 16, 1994). The General Preamble for the Implementation of Title I of the Clean Air Act Amendments of 1990 (“General Preamble”) was published at 57 FR 13498 (Apr. 16, 1992).

¹⁰ Id. at 42011, 42013.

The PM2.5 Requirements Rule explains that BACM/BACT are generally independent requirements, to be determined without regard to the specific attainment analysis (i.e., attainment demonstration) for the area.¹¹ The EPA found it reasonable to interpret the statute as requiring a different analysis for determining BACM/BACT, i.e., that while RACM emphasizes the attainment needs of the area, BACM has a greater emphasis on identifying measures that are feasible to implement. The Addendum to the General Preamble noted that the test for BACM puts a “greater emphasis on the merits of the measure or technology alone,” rather than on “flexibility in considering other factors,” in contrast to the approach for RACM/RACT.¹²

¹¹ 81 FR at 58081.

¹² 59 FR at 42011.

Section 189(b)(1)(B) of the Act allows states, in appropriate circumstances, to delay implementation of BACM until four years after reclassification. Because the EPA reclassified the Provo and Salt Lake City areas as Serious NAAs for the 2006 24-hour PM2.5 NAAQS effective June 9, 2017 (82 FR 21711; May 10, 2017), the date four years after reclassification is June 9, 2021. In this case, however, all BACM for direct PM2.5 and PM2.5 precursors in the Salt Lake City area must be, and was, implemented no later than December 31, 2019, which is the outermost statutory attainment date for the Salt Lake City area under section 188(c)(2).¹³

¹³ CAA section 189(b)(1)(B) establishes an outermost deadline (“no later than four years after the date the area is reclassified”) and does not preclude an earlier implementation deadline for BACM where necessary to satisfy the attainment requirements of the Act.

Under the PM2.5 Requirements Rule, control measures that can be implemented in whole or in part by the end of the fourth year after an area's reclassification to Serious are considered BACM, and control measures that can only be implemented after this period but before the attainment date are considered “additional feasible measures.” ¹⁴ The EPA has defined “additional feasible measures” as “those measures and technologies that otherwise meet the criteria for BACM/BACT but that can only be implemented in whole or in part beginning 4 years after reclassification of an area, but no later than the statutory attainment date of the area.” ¹⁵ Given that the statutory attainment date is less than three years from the effective date of the reclassification of the Provo and Salt Lake City areas, additional feasible measures are not required in this case.

¹⁴ 40 CFR 51.1010(a)(4)(ii). “Additional feasible measures” may be necessary in certain circumstances to implement the requirements of CAA section 172(c)(6), which states that NAA plans shall include enforceable emission limitations and such other control measures, means or techniques, as well as schedules and timetables for compliance, as may be necessary or appropriate to provide for attainment of the NAAQS by the applicable attainment date.

¹⁵ 40 CFR 51.1000.

The Addendum and the PM2.5 Requirements Rule explain that the BACM/BACT selection process for implementation of the 2006 24-hour PM2.5 NAAQS is designed to take into account the local facts and circumstances and the nature of the air pollution problem in a given NAA. The following steps are used in determining BACM/BACT: (1) Develop a comprehensive emission inventory of the sources of directly emitted PM2.5 and PM2.5 precursors; (2) Identify existing and potential control measures for the sources in the inventory; (3) Evaluate the technological feasibility of potential control measures; (4) Evaluate the economic feasibility of potential control measures; and (5) Determine the earliest date by which a control measure or technology can be implemented in whole or in part.¹⁶

¹⁶ Addendum at 42012-42014; 81 FR at 58084-58085.

Additionally, the information found within this action, coupled with the statutory and regulatory requirements, support the EPA's decision that BACT or lowest achievable emission rate (LAER) provisions for new sources (as distinct from BACT for existing sources), or best available retrofit technology (BART) for existing sources, could potentially qualify as BACM or BACT for purposes of meeting the Serious area attainment plan requirements.¹⁷ However, as discussed further in the PM2.5 Requirements Rule, it is not appropriate for a state to assume that just because a certain control technology was determined to meet BACT, LAER or BART criteria for a new source sometime in the past, that such a control will also automatically meet the criteria for BACM or BACT or additional feasible measures for attainment planning purposes. This is because the regulated pollutant or source applicability may differ and the analyses may be conducted years apart. Thus, a state may not simply rely on prior BACT, LAER or BART analyses for the purposes of showing that a source has also met BACT for the relevant 2006 24-hour PM2.5 NAAQS. Rather, the EPA expects that in Step 2 (discussed above) of the BACM/BACT determination process, the state would identify such measures as “existing measures” that should be further evaluated as potential BACM or BACT, or additional feasible measures. At the same time, the EPA notes that the presence of previously installed control technology, and the technical and economic considerations that would be associated with upgrading to a measure that achieves greater reductions, is something that should be considered in the assessments of technological and economic feasibility of the newer measure.¹⁸

¹⁷ See 81 FR at 58086.

¹⁸ Id.

Once these analyses are complete, a state must use this information to develop enforceable control measures and submit them to the EPA for evaluation under CAA section 110. We use these steps from the Addendum and the PM2.5 Requirements Rule, as guidelines in our evaluation of the BACM measures and related analyses in the Provo and Salt Lake City 2006 24-hour PM2.5 Serious SIP.

D. What is parallel processing? ¹⁹

¹⁹ 40 CFR part 51, appendix V, section 2.3.1.

Parallel processing refers to a process that utilizes concurrent state and Federal proposed rulemaking actions to process state SIP submissions in less time than the standard process. During parallel processing, generally, the state submits a copy of the proposed regulation or other revisions to the EPA before conducting its public hearing and completing its public comment process under state law. The EPA reviews this proposed state action and prepares a notice of proposed rulemaking under Federal Law. In some cases, the EPA's notice of proposed rulemaking is published in the Federal Register during the same time frame that the state is holding its public hearing and conducting its public comment process. The state and the EPA then provide for concurrent public comment periods on both the state action and Federal action. If, after completing the state and EPA's public comment process, the state changes its final submittal from the proposed submittal, the EPA evaluates those changes and decides on whether to publish another notice of proposed rulemaking in light of those changes or to proceed to taking the final action on its proposed action and describe the state's changes in its final rulemaking action. Any final rulemaking action by the EPA will occur only after the final submittal has been adopted by the state and formally provided to the EPA. Parallel processing is designed to require less time than the standard process, in which a state completes its entire state process before submitting a final SIP package to the EPA, only after which the EPA proposes action on the state submission, seeks public comment, and takes final action.

In this case, however, the EPA's and Utah's processes have not been perfectly concurrent. The State submitted the draft SIP revisions on May 20, 2025, with a public comment period starting March 1 and going through March 31, 2025, with a public hearing held online at 2:00 p.m. on March 13, 2025. The State's intention is to submit its final SIP revisions in July 2025. After Utah submits these formal SIP revisions, the EPA will evaluate the submittal. If the State changes the formal submittal from the proposed submittal, the EPA will evaluate those changes for significance. If the EPA finds any such changes to be significant, then the Agency intends to determine whether to re-propose the actions based on the revised submission or to proceed to take final action on the submittal as changed by the State. Although the EPA was unable to have a concurrent public comment process with the State, parallel processing allows the EPA to begin to take action on the State's proposed submittal in advance of a formal and final submission.

II. EPA's Evaluation of the May 20, 2025 Draft SIP Submission

A. BACM/BACT Revisions

1. BACM/BACT Analysis in the Serious PM2.5 SIP

The UDAQ's BACM/BACT process and control measure evaluations for the identified sources are described in detail in their draft May 20, 2025 submission.²⁰ For each identified source, UDAQ identified its adopted control measures and potential additional control measures based on measures implemented in other areas, measures identified in EPA regulations or guidance (e.g., in control technique guidelines (CTGs), alternative control technique documents (ACTs), new sources performance standards (NSPSs), or in the EPA's “Cost Analysis Models/Tools for Air Pollution Regulations”), or measures identified in prior EPA rulemaking documents (e.g., recommendations in SIP actions).²¹ UDAQ evaluated these potential additional control measures to determine whether implementation of the measures would be technologically and economically feasible in the Salt Lake City area. Based upon their evaluation, UDAQ determined BACM/BACT to be the existing controls for all five facilities listed below.

²⁰ On November 6, 2020, (85 FR 71023), the EPA proposed approval of the redesignation requests, maintenance plans, and the Moderate and Serious PM2.5 SIP submissions including BACM/BACT determinations for all other sources (which included on-road mobile sources, off-road mobile sources, area sources, and major stationary sources).

²¹ The Cost Analysis Models/Tools for Air Pollution Regulations can be found at https://www.epa.gov/economic-and-cost-analysis-air-pollution-regulations/cost-analysis-modelstools-air-pollution.

In the following sections, we review key components of UDAQ's demonstrations concerning BACM/BACT for the identified sources of direct PM2.5, nitrogen oxide (NOX), volatile organic compounds (VOC), sulfur dioxide (SO2), and ammonia (NH3) emissions in the Salt Lake City NAA: (1) Big West Oil LLC Refinery; (2) Chevron Products Company—Salt Lake Refinery; (3) Hexcel Corporation: Salt Lake Operations; (4) Holly Frontier Sinclair Woods Cross Refinery; and (5) Tesoro Refining and Marketing Company LLC Marathon Refinery: Salt Lake City Refinery.

2. EPA's Evaluation and Conclusion of UDAQ's BACM/BACT Demonstrations for Identified Sources in the Salt Lake City NAA

EPA reviewed UDAQ's analysis and determination in the May 20, 2025 draft submission that the five major stationary source control measures represent BACM/BACT for direct PM2.5 and PM2.5 precursors within the Provo and Salt Lake City NAAs. As a result, the EPA proposes to determine that UDAQ's Utah SIP Part H emission limits provide for the implementation of BACM/BACT for the five major stationary sources of direct PM2.5 and PM2.5 precursors. Additional detail can be found in our technical support document (TSD) located in the docket for this action.

We are proposing to approve, through parallel processing, the May 20, 2025 draft submission of revisions to Utah SIP section IX.H.11. and 12. and to find that the May 20, 2025 draft submission provides for the implementation of BACM/BACT for all sources of direct PM2.5 and PM2.5 precursors as expeditiously as practicable, for purposes of the 2006 24-hour PM2.5 NAAQS in the Salt Lake City area, in accordance with the requirements of CAA section 189(b)(1)(B) and 40 CFR 51.1010. Additional detail can be found in the TSD within the docket.

B. Utah's Additional SIP Revisions in the May 20, 2025 Draft Submission

When certain sections of the Utah state SIP are amended by the Utah Air Quality Board (UAQB), those sections must be incorporated into the Utah Air Quality Rules in the UAC. Utah incorporates its state SIP sections within UAC section R307-110. These rules are amended as needed to change the effective dates to match the UAQB approval date of various amendments to the Utah state SIP. For this proposed action, we are also proposing to approve into the federally approved SIP, through the parallel process based on the information in the May 20, 2025 UDAQ submission, section IX., Control Measures for Area and Point Sources, Part H, Emission Limits,²² which incorporates all the emission limits in the Utah state SIP section IX.H.11. and 12. Additionally, we are proposing to approve into the federally approved SIP the revisions within Utah SIP sections 11. and 12. through the parallel process based on the information May 20, 2025 UDAQ submission. In section I.C. above, we discuss the process of this type of action.

²² Utah's SIP for R307 series rules are located at: https://deq.utah.gov/air-quality/air-quality-laws-and-rules; and section IX.H. are located at: https://deq.utah.gov/air-quality/sections-state-implementation-plan-sip.

1. R307-110-17

Section R307-110-17 incorporates the amendments to Utah State SIP section IX., Control Measures for Area and Point Sources, Part H, Emission Limits into the UAC. This is a ministerial provision, which only revises the effective date within the rule to May 7, 2025, and does not by itself change any state SIP control measures.

2. Utah State SIP Section IX.H.11

Utah State SIP section IX.H.11. (General Requirements: Control Measures for Area and Point Sources, Emission Limits and Operating Practices, PM2.5) establishes general requirements for recordkeeping, reporting, good combustion practices for emission minimization, and monitoring for the stationary sources subject to emission limits under Utah State SIP sections IX.H.12. and 13., except as otherwise outlined in individual conditions in sections IX.H.12. and 13. Additionally, this section establishes general refinery requirements, addressing limitations on emitting units common to the refineries in the NAAs. These general refinery requirements include limits at fluid catalytic cracking units, limits on refinery fuel gas and heat exchangers, requirements on tank degassing, restrictions on liquid fuel oil consumption, requirements for leak detections and repairs, and requirements for hydrocarbon flares. Furthermore, section IX.H.11. controls VOCs through catalytic oxidation at internal combustion engines and natural gas combustion turbines.

UDAQ revised IX.H.11.c. where subsections `iv' and `v' were created. These two subsections describe how each source under IX.H.12. and 13. are required to comply with all applicable recordkeeping and reporting sections of the facilities' most recently, federally, approved title V permit, which includes submissions of annual compliance certifications and bi-annual monitoring reports, unless a more stringent requirement is found under IX.H.12. and/or 13. Additionally, subsection `v' requires that each source complies with applicable recordkeeping and reporting found in 40 CFR part 60 and 40 CFR part 63.

Additionally, UDAQ revised subsection IX.H.11.g.vii.B. and created two other subsections under IX.H.11.g. which includes IX.H.11.g.viii. and IX.H.11.g.ix. Subsection IX.H.11.g.vii.B. revised a reference of 40 CFR 80.510 to 1090.305. The two subsections that were created, create good combustion practices, and recordkeeping and reporting requirements specific to refineries located in the PM2.5 NAAs. To ensure minimization of emissions, each owner/operator shall operate all combustion units in accordance with good combustion practices and maintain all combustion units following the manufacturer's recommendations. The additional recordkeeping and reporting requirements for refineries are in addition to IX.H.11.c. and each refinery shall comply with the listed requirements until such time as a title V operating permit is federally approved:

(a) All required monitoring data and support information required by IX.H.11 and IX.H.12 shall be retained by the source for a period of five years from the date of monitoring sample, measurement, report, or application. Support information includes all calibration and maintenance records, all original strip-charts or appropriate readings for continuous monitoring instrumentation, and copies of all reports required by IX.H.11 and IX.H.12.

(b) Monitoring reports, if applicable, shall be submitted to UDAQ as specified in IX.H.11.e. and IX.H.11.f.

The detailed analysis of our parallel process on the May 20, 2025 submission of draft revisions to Utah State SIP section IX.H.11., can be found in our TSD in the docket.

3. Utah State SIP Section IX.H.12

Utah State SIP section IX.H.12. (Source-Specific Emission Limitations in Salt Lake City—UT PM2.5 Nonattainment Area) establishes specific emission limitations for 17 sources. These sources are ATK Launch Systems Inc. Promontory, Big West Oil LLC Refinery, Chemical Lime Company (LHoist North America), Chevron Products Company—Salt Lake Refinery, Compass Minerals Ogden Inc., Holly Frontier Sinclair Woods Cross Refinery, Kennecott Utah Copper (KUC): Mine, Kennecott Utah Copper (KUC): Power Plant, Kennecott Utah Copper: Smelter and Refinery, Nucor Steel Mills, PacifiCorp Energy: Gadsby Power Plant, Tesoro Refining and Marketing Company LLC Marathon Refinery: Salt Lake City Refinery, The Proctor & Gamble Paper Products Company, Utah Municipal Power Association: West Valley Power Plant, University of Utah: University of Utah Facilities, and Hill Air Force Base. Major stationary sources were identified based on their potential to emit (PTE) of 70 tpy or more of PM2.5, NOX, SO2, VOC, and/or NH3. With this draft submittal, UDAQ is completing major revisions to emission limitations for the following five sources in section IX.H.12.: (1) IX.H.12.b. Big West Oil LLC Refinery; (2) IX.H.12.d. Chevron Products Company—Salt Lake Refinery; (3) IX.H.12.f. Hexcel Corporation: Salt Lake Operations; (4) IX.H.11.g. Holly Frontier Sinclair Woods Cross Refinery; and (5) IX.H.12.m. Tesoro Refining and Marketing Company LLC Marathon Refinery: Salt Lake City Refinery. A summary of the proposed new emission limits is outlined below.

The detailed analysis of our parallel process on the May 20, 2025 submission of draft revisions and BACM/BACT analyses to Utah state SIP section IX.H.12., can be found in our TSD in the docket.

4. EPA's Evaluation and Conclusion of Utah's Additional SIP Revisions in the May 20, 2025 Draft Submission

We are proposing to approve, through parallel processing, the May 20, 2025 draft submission of revisions to the federally approved Utah SIP as listed in the Utah state SIP section IX.H.11. and 12. We are also proposing to find that the May 20, 2025 draft submission provides for the implementation of BACM/BACT for the five sources of direct PM2.5 and PM2.5 precursors listed above as expeditiously as practicable, for purposes of the 2006 24-hour PM2.5 NAAQS in the Salt Lake City area, in accordance with the requirements of CAA section 189(b)(1)(B) and 40 CFR 51.1010. Additional detail can be found within the TSD in the docket.

C. Did Utah follow the proper procedures for adopting their action?

Section 110(k) of the CAA addresses our actions on submissions of revisions to a SIP. The Act also requires states to observe procedural requirements in developing implementation plans and plan revisions for submission. Section 110(a)(2) of the Act provides that each implementation plan submitted by a state must be adopted after reasonable notice and public hearing. Section 110(l) of the Act similarly provides that each revision to an implementation plan submitted by a state under the Act must be adopted by the state after reasonable notice and public hearing.

We also must determine whether a submittal is complete and therefore warrants further review and action.²³ Our completeness criteria for SIP submittals is set out at 40 CFR part 51, appendix V. A submittal is deemed complete by operation of law under section 110(k)(1)(B) of the Act if a completeness determination is not made within six months after receipt of the submission.

²³ CAA section 110(k)(1); 57 FR 13565.

On May 20, 2025, UDAQ submitted to the EPA for parallel processing a draft SIP revision based upon draft revisions to the Utah state SIP section IX.H.11. and 12., and R307-110-17. The comment period at the State level began March 1 and ended March 31, 2025, with a public hearing held online at 2:00 p.m. on March 13, 2025. UDAQ requested this parallel processing so as not to delay action on the 2006 24-hour PM2.5 redesignations for the Salt Lake City and Provo NAAs. UDAQ is planning on submitting its final SIP revision early in July 2025. After the State formally submits these final revisions, the EPA will evaluate the final submittal for any changes between the proposed and final versions. As discussed above in section I.C., the EPA will determine if any changes to the draft submission would warrant another proposed rule, or if on the other hand the agency may proceed with a final action. This formal submission from the State of Utah will accompany either the final rule or the new proposed rule under this docket number.

III. Proposed Action

As mentioned in the sections above, we are proposing to approve, through parallel processing, Utah's draft May 20, 2025 submission to revise the federally approved Utah SIP based upon revisions to the Utah state SIP sections IX.H.11. and 12., and the accompanying R307-110-17. Additionally, the EPA is proposing to approve for incorporation into the federally approved Utah SIP the five major stationary sources BACM/BACT analyses/updates for the Salt Lake City 2006 24-hour PM2.5 NAA that were submitted as a draft on May 20, 2025.

IV. Incorporation by Reference

In this document, the EPA is proposing to include regulatory text in an EPA final rule that includes incorporation by reference. In accordance with requirements of 1 CFR 51.5, the EPA is proposing to incorporate by reference R307-110-17 and Utah state SIP section IX.H.11. and 12, as discussed in sections I. and II. of this preamble. The EPA has made, and will continue to make, these materials generally available through https://www.regulations.gov and at the EPA Region 8 Office (please contact the person identified in the FOR FURTHER INFORMATION CONTACT section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

List of Subjects in 40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

Authority: 42 U.S.C. 7401 et seq.

Dated: July 2, 2025.
Cyrus M. Western,
Regional Administrator, Region 8.

[FR Doc. 2025-13337 Filed 7-15-25; 8:45 am]

BILLING CODE 6560-50-P